DEPARTMENT OF COMMERCE

Foreign-Trade Zones Board

[B-69-2019]

Foreign-Trade Zone 124—Gramercy, Louisiana; Application for Subzone; Frank's International, LLC; New Iberia/Lafayette, Louisiana

An application has been submitted to the Foreign-Trade Zones (FTZ) Board by the Port of South Louisiana, grantee of FTZ 124, requesting subzone status for the facilities of Frank's International, LLC, located in New Iberia and Lafayette, Louisiana. The application was submitted pursuant to the provisions of the Foreign-Trade Zones Act, as amended (19 U.S.C. 81a-81u), and the regulations of the FTZ Board (15 CFR part 400). It was formally docketed on October 29, 2019.

The proposed subzone would consist of the following sites: Site 1 (117.36 acres) 3500 Segura Road, New Iberia; and, Site 2 (29.941 acres) 700 East Verot School Road, Block “E”, Lafayette. A notification of proposed production activity has been submitted and will be published separately for public comment.

In accordance with the FTZ Board's regulations, Camille Evans of the FTZ Staff is designated examiner to review the application and make recommendations to the FTZ Board.

Public comment is invited from interested parties. Submissions shall be addressed to the FTZ Board's Executive Secretary and sent to: ftz@trade.gov. The closing period for their receipt is December 16, 2019. Rebuttal comments in response to material submitted during the foregoing period may be submitted during the subsequent 15-day period to December 30, 2019.

A copy of the application will be available for public inspection in the “Reading Room” section of the FTZ Board's website, which is accessible via www.trade.gov/ftz.

For further information, contact Camille Evans at Camille.Evans@trade.gov or (202) 482-2350.

Dated: October 29, 2019.
Andrew McGilvray,
Executive Secretary.

[FR Doc. 2019-24035 Filed 11-1-19; 8:45 am]

BILLING CODE 3510-DS-P